DEPARTMENT OF THE INTERIOR

National Park Service

[NPS-MWR-KNRI-21917; 16XP103905-PPWODESCP1-PMP00UP05.YP0000-PX.PD171326E.00.1]

Notice of Availability of the Draft Archeological Resources Management Plan, Environmental Impact Statement, Knife River Indian Villages National Historic Site, North Dakota

AGENCY: National Park Service, Interior.

ACTION: Notice of availability.

SUMMARY: The National Park Service (NPS) announces the availability of the Draft Archeological Resources Management Plan/Environmental Impact Statement (EIS), Knife River Indian Village National Historic Site (Park), North Dakota.

DATES: All comments must be postmarked or transmitted not later than January 3, 2017.

ADDRESSES: A limited number of hard-copies of the Draft EIS may be picked up in-person or may be obtained by making a request in writing to Knife River Indian Villages National Historic Site, P.O. Box 9, Stanton, North Dakota 58571. The document is also available on the internet at the NPS Planning, Environment, and Public Comment Web site at: https://Parkplanning.nps.gov/projectHome.cfm?projectID=34314

FOR FURTHER INFORMATION CONTACT: Superintendent Craig Hansen can be reached at the address above, by telephone at (701) 745-3741 (ext. 209), or via email at craig_hansen@nps.gov.

SUPPLEMENTARY INFORMATION: This process has been conducted pursuant to the National Environmental Policy Act of 1969 (42 U.S.C. 4321 et seq.) and the regulations of the Department of the Interior (43 CFR part 46). The purpose of the plan is to provide a management framework for proactive, sustainable archeological resource protection at the Park for the next 30 years. The NPS has identified four major threats to archeological resources. While riverbank erosion is the most visible and documented threat to archeological resources, additional impacts occur from pocket gopher activity, vegetation encroachment, and location of Park infrastructure.

Riverbank erosion has been an ongoing problem since the Park was created and this ongoing impact has the greatest adverse effect to archeological resources. Over the past few decades village remnants and archeological sites adjacent to the Knife River have experienced measurable erosion. In addition, Northern pocket gophers affect archeological sites by displacing soil and artifacts from chronologically stratified deposits. Also, the encroachment of woody and overgrown vegetation into archeological sites causes multiple issues for archeological sites. Root growth results in displacement of chronological layers, similar to that of pocket gophers.

The maintenance facility for the Park is a visual intrusion in the cultural landscape, particularly for the Big Hidatsa site, a designated National Historic Landmark. The North Dakota State Historic Preservation Office (SHPO) and the Mandan, Hidatsa, and Arikara Nation (MHA Nation) Tribal Historic Preservation Office have recommended that the facility be relocated to remove this visual impact from the site. In addition, the maintenance facility is located near burial sites and areas considered sacred by the tribes traditionally associated with the resources present in the Park.

Finally, the location of the Museum Collection Storage Facility, in the basement of the Visitor's Center, has had water infiltration issues. A final goal of this plan is to develop a remedy for this problem, or the storage facility will need to be replaced.

Range of Alternatives Considered: The alternatives analyzed in the Draft EIS are summarized below.

Alternative 1: No-Action Alternative: Under the no-action alternative, management of archeological resources at the Park would continue as currently implemented.

Management would respond to archeological resource threats but without the benefit of site prioritization and a proactive adaptive management framework. Under the no-action alternative, existing Park infrastructure would remain in place. Repairs to the existing visitor center to address water infiltration issues would occur. Ongoing riverbank erosion, pocket gopher control, and vegetation encroachment management activities would continue.

Elements Common to All Action Alternatives: Under both action alternatives, archeological resources management at the Park would be executed within an adaptive management framework. This framework would be used to address riverbank erosion, gopher control, and woody vegetation encroachment. The project team developed a process to prioritize archeological sites based on the importance of the resource and the level of risk of loss of the resource to inform management decisions.

The NPS has developed indicators and standards for managing the archeological resources based on the Park's purpose, significance, objectives, and desired conditions. These indicators and standards will serve as a tool to monitor and evaluate the adaptive management actions.

Alternative 2: Relocate Facilities in the Park: Under alternative 2, archeological resources would be managed under the adaptive management framework described above. Under this alternative, the maintenance facility would be moved to another location in the Park and the existing maintenance buildings would be removed.

Additionally, the museum collection would be moved if the project to stop water infiltration in the visitor center building is unsuccessful or if the Park identifies funding or partnership opportunities to relocate the museum collection out of the basement of the Visitor's Center to a more suitable location.

Alternative 3: Locate Facilities Off-Site: Under alternative 3, archeological resources would be managed under the adaptive management framework described above. Under this alternative, the Park would relocate the maintenance facility outside the Park boundary and remove the existing maintenance buildings from the Park landscape. Similar to alternative 2, the museum collection would be moved if the project to stop water infiltration in the visitor center building is unsuccessful or if the Park identifies funding or partnership opportunities to relocate the museum collection out of the basement to a more suitable location.

NPS Preferred Alternative: The preferred alternative is likely to be a combination of alternatives 2 and 3. The NPS would prefer to remove the maintenance facility from Park property, and stop water infiltration at the visitor center so the museum collection can remain in place. While moving the maintenance facility off-site is preferred to best protect Park resources, the ability to relocate is dependent on the availability of suitable property at a reasonable price. If suitable sites are not available when the Park is ready to relocate, the Park will construct the facilities within the Park.

In order to comment on this plan, comments may be transmitted electronically through the project Web site (address above). If preferred, you may mail written comments directly to the Superintendent at the address above.

Before including your address, phone number, email address, or other personal identifying information in your comment, you should be aware that your entire comment—including your personal identifying information—may be made publicly available at any time. While you can ask us in your comment to withhold your personal identifying information from public review, we cannot guarantee that we will be able to do so.

Dated: September 9, 2016.
Patricia S. Trap,
Deputy Regional Director, Midwest Region.

[FR Doc. 2016-26690 Filed 11-3-16; 8:45 am]

BILLING CODE 4312-52-P